DEPARTMENT OF HOUSING AND URBAN DEVELOPMENT

[Docket No. FR-5300-FA-24]

Announcement of Funding Awards; HOPE VI Main Street Grant Program, Fiscal Year (FY) 2009

AGENCY: Office of Public and Indian Housing, HUD.

ACTION: Announcement of funding awards.

SUMMARY: In accordance with Section 102(a)(4)(C) of the Department of Housing and Urban Development Reform Act of 1989, this announcement notifies the public of funding decisions made by the Department in a competition for funding under the FY2009 Notice of Funding Availability (NOFA) for the HOPE VI Main Street Program. This announcement contains the consolidated names and addresses of the award recipients under said NOFA.

FOR FURTHER INFORMATION CONTACT: Lawrence Gnessin, HOPE VI Main Street Program Manager, Office of Public and Indian Housing, Department of Housing and Urban Development, 451 7th Street, SW., Washington, DC 2010, e-mail lawrence.gnessin@hud.gov, and telephone number 202-402-2676. (This is not a toll-free number.) Persons with hearing or speech impairments may access this number through TTY by calling the toll-free Federal Relay Service at 1-800-877-8339

SUPPLEMENTARY INFORMATION: The program authority for the HOPE VI Main Street program is Section 24 of the United States Housing Act of 1937 (42 U.S.C. 1437v), as amended by Section 535 of the Quality Housing and Work Responsibility Act of 1998 (Pub. L. 105-276, 112 Stat. 2461, approved October 21, 1998), the HOPE VI Program Reauthorization and Small Community Mainstreet Rejuvenation and Housing Act of 2003 (Pub. L. 108-186, 117 Stat. 2685, approved December 16, 2003); and the Omnibus Appropriations Act, 2009 (Pub. L. 111-8, approved March 11, 2009). The purpose of the HOPE VI Main Street program is to provide grants to small communities to assist in the rejuvenation of an historic or traditional central business district or “Main Street” area by replacing unused commercial space in buildings with affordable housing units. The objectives of the program are to (1) redevelop Main Street areas; (2) preserve historic or traditional architecture or design features in Main Street areas; (3) enhance economic development efforts in Main Street areas; and (4) provide affordable housing in Main Street areas.

On November 11, 2009, HUD posted its FY2009 Main Street Grants program NOFA to Grants.gov. This made approximately $4 million in assistance available for the competition. Prior to the application due date, the Department added $1.5 million to the competition from assistance appropriated by the Department of Housing and Urban Development Consolidated Appropriations Act, 2010 (Pub. L. 111-117 approved December 16, 2009). The Department reviewed, evaluated and scored the applications received based on the criteria in the FY2009 NOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

In accordance with Section 102(a)(4)(C) of the Department of Housing and Urban Development Reform Act of 1989 (103 Stat. 1987, 42 U.S.C. 3545), the Department is publishing the names, addresses, and amounts of the five (5) awards made under FY 2009-10 HOPE VI Main Street NOFA.

Sandra B. Henriquez,
Assistant Secretary for Public and Indian Housing.

Appendix A

HOPE VI Main Street Grant Program Awards From the Fiscal Year Notice of Funding Availability
Recipient | Amount awarded
Municipality of Coamo, PR, Mario Braschi and Baldorioty Street, P.O. Box 1875, Coamo, PR 00769 | $ 650,000
City of Hawkinsville, GA, 319 Broad, P.O. Box 120, Hawkinsville, GA 31036 | 1,000,000
City of Marshalltown, IA, 24 North Center Street, Marshalltown, IA 50158 | 1,000,000
City of Martin, SD, 101 Main Street, P.O. Box 687, Martin, SD 57551 | 977,500
City of Borough of Wrangell, AK, 205 Brueger Street, P.O. Box 531, Wrangell, AK 99929 | 869,000

[FR Doc. 2011-24399 Filed 9-22-11; 8:45 am]

BILLING CODE 4210-67-P